DEPARTMENT OF EDUCATION

[Docket No.: ED-2022-SCC-0123]

Agency Information Collection Activities; Submission to the Office of Management and Budget for Review and Approval; Comment Request; Liquidation Extension Request Template

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before January 18, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Jennifer Timmons, 202-987-1295.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Liquidation Extension Request Template.

OMB Control Number: 1810-0771.

Type of Review: An extension without change of a currently approved ICR.

Respondents/Affected Public: State, Local, and Tribal Governments.

Total Estimated Number of Annual Responses: 104.

Total Estimated Number of Annual Burden Hours: 2,080.

Abstract: This is a request for approval for an extension of the OMB approved 1810-0771 collection by the Office of State and Grantee Relations (SGR) in the Office of Elementary and Secondary Education (OESE) at the U.S. Department of Education (ED) for the Elementary and Secondary School Education Relief (ESSER) fund and the Governor's Emergency Education Relief (GEER) fund authorized by the Coronavirus Aid, Relief and Economic Security Act of 2020, Public Law 116-136, Coronavirus Aid, Relief, and Economic Security Act (CARES Act). The CARES-ESSER (ALN 84.425D) program is a $13 billion formula grant program allocated to State educational agencies (SEA) for use in responding to and recovering from the COVID-19 pandemic. The CARES-GEER (ALN 84.425C) program is a $2.9 billion formula grant program allocated to Governors for the purpose of providing local educational agencies (LEAs), institutions of higher education (IHEs), and other education related entities with emergency assistance to address the impact of the coronavirus pandemic. A liquidation extension request will be required in order for an SEA or Governor's office to receive approval to liquidate funds beyond the 120-day liquidation period following the period of availability of September 30, 2022. The Department will use the grantee's request to review and recommend approval for a liquidation extension request.

Dated: December 13, 2022.
Kun Mullan,
PRA Coordinator, Strategic Collections and Clearance, Governance and Strategy Division, Office of Chief Data Officer, Office of Planning, Evaluation and Policy Development.

[FR Doc. 2022-27370 Filed 12-16-22; 8:45 am]

BILLING CODE 4000-01-P